DEPARTMENT OF HEALTH AND HUMAN SERVICES

Centers for Disease Control and Prevention

[30Day-16-16XD]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Practice Patterns Related to Opioid Use during Pregnancy and Lactation—New—National Center for Chronic Disease Prevention and Health Promotion (NCCDPHP), Centers for Disease Control and Prevention (CDC).

Background and Brief Description

Over the past decade, the prevalence of maternal opioid use during pregnancy has steadily increased. The use of opioids or other psychoactive substances, either by illicit abuse or by nonmedical abuse of prescription opioids, increases the risks for health and social problems for both mother and infant. For example, maternal substance abuse during pregnancy increases the risk of preterm birth, low birth weight, perinatal death, and neonatal abstinence syndrome (NAS). For many women, and some at-risk women in particular, prenatal visits may be the only time they routinely see a physician. Because obstetrician-gynecologists (OB/GYNs) are the principal health care providers for women, OB/GYNs are well situated to screen for substance use and to treat or encourage cessation of substance use during pregnancy. Thus, it is important to understand current provider knowledge, attitudes, and practices regarding maternal opioid use.

CDC, in collaboration with the American College of Obstetricians and Gynecologists (ACOG), plans to conduct a survey to address this gap in knowledge. Survey respondents will be ACOG Fellows and Junior Fellows who have a current medical license and are in medical practice focused on women's health. ACOG is separated into 11 districts, one of which represents OB/GYN members who are in the U.S. military. The remaining 10 ACOG districts correspond to geographic regions that encompass the entire United States and Canada. Survey invitations will be sent to a quasi-random sample of ACOG members in each district.

CDC and ACOG estimate that 1,500 individuals will be contacted in order to obtain a study target of 600 respondents. The initial invitation will be distributed by email with instructions on completing a web-based version of the questionnaire. Three to four months after the initial invitation, a paper version of the questionnaire will be distributed to individuals who have not completed the online version. The estimated number of respondents for the full web-based or paper questionnaire is 420 and the estimated burden per response is 15 minutes. Approximately 6 weeks after the second recruitment attempt, ACOG will distribute a short version of the questionnaire to any non-responders. The estimated number of responses for the short version of the questionnaire is 180 and the estimated burden per response is 5 minutes. An overall 40% response rate is expected.

The survey will collect information about provider attitudes and beliefs regarding maternal opioid use, their screening and referral practices for pregnant or postpartum patients, barriers to screening and treating pregnant and postpartum patients for opioid use, and resources that are needed to improve treatment and referral. No information will be collected about individual patients. Survey administration and data management will be conducted by ACOG, and participation is voluntary. De-identified response data will be shared with CDC for analysis. Findings will be used to create recommendations for educational programs and patient care. The total estimated annualized burden hours are 120. There are no costs to participants other than their time.

Estimated Annualized Burden Hours
Type of respondents | Form name | Number of respondents | Number of responses per respondent | Average burden per response (in hours)
OB/GYNs caring for pregnant women | Practice Patterns related to Opioid Use during Pregnancy and Lactation—Full survey | 420 | 1 | 15/60
| Practice Patterns related to Opioid Use during Pregnancy and Lactation—Short introduction and survey | 180 | 1 | 5/60

Leroy A. Richardson,
Chief, Information Collection Review Office, Office of Scientific Integrity, Office of the Associate Director for Science, Office of the Director, Centers for Disease Control and Prevention.

[FR Doc. 2016-21273 Filed 9-2-16; 8:45 am]

BILLING CODE 4163-18-P